DEPARTMENT OF COMMERCE

International Trade Administration

[A-822-806, A-821-824, A-520-808]

Carbon and Alloy Steel Wire Rod From Belarus, the Russian Federation, and the United Arab Emirates: Notice of Correction to Antidumping Duty Orders

AGENCY: Enforcement and Compliance, International Trade Administration, Department of Commerce.

FOR FURTHER INFORMATION CONTACT: Rebecca Janz at (202) 482-2972 (Belarus), Kaitlin Wojnar at (202) 482-3857 (Russia), or Carrie Bethea at (202) 482-1491 (the UAE), AD/CVD Operations, Enforcement and Compliance, International Trade Administration, Department of Commerce, 1401 Constitution Avenue NW, Washington, DC 20230.

SUPPLEMENTARY INFORMATION:

Background

On January 24, 2018, the Department of Commerce (Commerce) published the antidumping duty orders on carbon and alloy steel wire rod from Belarus, the Russian Federation, and the United Arab Emirates.¹ Commerce made a typographical error in the Appendix to the Orders. Specifically, in the scope description, Harmonized Tariff Schedule of the United States (HTSUS) subheading 7213.91.3015 was incorrectly published as HTSUS subheading 213.91.3015.²

¹ See Carbon and Alloy Steel Wire Rod from Belarus, the Russian Federation, and the United Arab Emirates: Antidumping Duty Orders, 83 FR 3297 (January 24, 2018) (the Orders).

² Id. at Appendix.

Correction

Commerce is correcting the Orders to clarify that subject merchandise is currently classifiable under, inter alia, HTSUS subheading 7213.91.3015. The complete scope of the Orders, as it should have appeared in the Orders, is included as an Appendix to this notice.

This correction to the Orders is published in accordance with section 736(a) of the Tariff Act of 1930, as amended.

Dated: February 2, 2018.
Gary Taverman,
Deputy Assistant Secretary for Antidumping and Countervailing Duty Operations, performing the non-exclusive functions and duties of the Assistant Secretary for Enforcement and Compliance.

Appendix

Scope of the Orders

The merchandise covered by these orders is certain hot-rolled products of carbon steel and alloy steel, in coils, of approximately round cross section, less than 19.00 mm in actual solid cross-sectional diameter. Specifically excluded are steel products possessing the above-noted physical characteristics and meeting the Harmonized Tariff Schedule of the United States (HTSUS) definitions for (a) stainless steel; (b) tool steel; (c) high-nickel steel; (d) ball bearing steel; or (e) concrete reinforcing bars and rods. Also excluded are free cutting steel (also known as free machining steel) products (i.e., products that contain by weight one or more of the following elements: 0.1 percent or more of lead, 0.05 percent or more of bismuth, 0.08 percent or more of sulfur, more than 0.04 percent of phosphorous, more than 0.05 percent of selenium, or more than 0.01 percent of tellurium). All products meeting the physical description of subject merchandise that are not specifically excluded are included in this scope.

The products subject to these orders are currently classifiable under subheadings 7213.91.3011, 7213.91.3015, 7213.91.3020, 7213.91.3093; 7213.91.4500, 7213.91.6000, 7213.99.0030, 7227.20.0030, 7227.20.0080, 7227.90.6010, 7227.90.6020, 7227.90.6030, and 7227.90.6035 of the HTSUS. Products entered under subheadings 7213.99.0090 and 7227.90.6090 of the HTSUS also may be included in this scope if they meet the physical description of subject merchandise above. Although the HTSUS subheadings are provided for convenience and customs purposes, the written description of the scope of this proceeding is dispositive.

[FR Doc. 2018-02446 Filed 2-6-18; 8:45 am]

BILLING CODE 3510-DS-P